SECURITIES AND EXCHANGE COMMISSION

[Release No. 80770]

In the Matter of the NYSE Arca, Inc.; for an Order Granting the Approval of Proposed Rule Change To List and Trade Shares of the ForceShares Daily 4X US Market Futures Long Fund and ForceShares Daily 4X US Market Futures Short Fund Under Commentary .02 to NYSE Arca Equities Rule 8.200; Order Scheduling Filing of Statements on Review

May 25, 2017.

On October 17, 2016, NYSE Arca, Inc. (“NYSE Arca” or “Exchange”) filed with the Securities and Exchange Commission (“Commission”), pursuant to Section 19(b)(1) of the Securities Exchange Act of 1934 ¹ and Rule 19b-4 thereunder,² a proposed rule change to list and trade shares of the ForceShares Daily 4X US Market Futures Long Fund and ForceShares Daily 4X US Market Futures Short Fund under Commentary .02 to NYSE Arca Equities Rule 8.200. On November 4, 2016, the proposal was published for comment in the Federal Register.³ On December 14, 2016, the Division of Trading and Markets, for the Commission pursuant to delegated authority, extended the time period for Commission action on the proposed rule change.⁴ On February 1, 2017, the Division of Trading and Markets, for the Commission pursuant to delegated authority, instituted proceedings to determine whether to approve or disapprove the proposed rule change.⁵ On April 20, 2017, NYSE Arca submitted Amendment No. 3 to the proposed rule change, which replaced and superseded the proposed rule change as modified by previous amendments.⁶ No comments on the proposed rule change were received. On May 2, 2017, the Division of Trading and Markets, for the Commission pursuant to delegated authority,⁷ approved the proposed rule change, as modified by Amendment No. 3.⁸

¹ 15 U.S.C. 78s(b)(1).

² 17 CFR 240.19b-4.

³ See Securities Exchange Act Release No. 79201 (Oct. 31, 2016), 81 FR 76977 (Nov. 4, 2016) (SR-NYSEArca-2016-120).

⁴ See Securities Exchange Act Release No. 79550 (Dec. 14, 2016), 81 FR 92892 (Dec. 20, 2016).

⁵ See Securities Exchange Act Release No. 79914 (Feb. 1, 2017), 82 FR 9625 (Feb. 7, 2017).

⁶ Amendment No. 3 replaced and superseded the proposed rule change as modified by Amendment No. 2. Amendment No. 2 had previously replaced and superseded the proposed rule change as modified by Amendment No. 1. Amendment No. 1 replaced and superseded the original filing in its entirety.

⁷ 17 CFR 200.30-3(a)(12).

⁸ See Securities Exchange Act Release No. 80579 (May 2, 2017), 82 FR 21443 (May 8, 2017).

Pursuant to Commission Rule of Practice 431,⁹ the Commission is reviewing the delegated action, and the May 2, 2017 order is stayed.

⁹ 17 CFR 201.431.

Accordingly, it is ordered, pursuant to Commission Rule of Practice 431, that by June 15, 2017, any party or other person may file any additional statement.

It is further ordered that the May 2, 2017 order approving the proposed rule change, as modified by Amendment No. 3 (SR-NYSEArca-2016-120) shall remain stayed pending further order of the Commission.

By the Commission.
Brent J. Fields,
Secretary.

[FR Doc. 2017-11245 Filed 5-31-17; 8:45 am]

BILLING CODE 8011-01-P